DEPARTMENT OF COMMERCE

National Oceanic and Atmospheric Administration

[DOCKET NUMBER: 121203675-2675-01]

RIN 0648-XC384

Solicitation of Review Editors for the Draft Report of the National Climate Assessment and Development Advisory Committee (NCADAC).

AGENCY: Office of Oceanic and Atmospheric Research (OAR), National Oceanic and Atmospheric Administration (NOAA), Department of Commerce (DOC).

ACTION: Notice of solicitation.

SUMMARY: NOAA is soliciting nominations for review editors of the National Climate Assessment and Development Advisory Committee (NCADAC) National Climate Assessment 2013 Draft Report. The NCADAC was established under the Department of Commerce in January 2011 and is a federal advisory committee established as per the Federal Advisory Committee Act of 1972.

DATES: Nominations should be sent to the address specified and must be received by January 11, 2013.

ADDRESSES: Nominations and applications should be submitted electronically to the office of the U.S. Global Change Research Program at email@usgcrp.gov. More information on the National Climate Assessment can be found at http://www.nesdis.noaa.gov/NCADAC/index.html or http://www.globalchange.gov/what-we-do/assessment/draft-report-information.

FOR FURTHER INFORMATION CONTACT: Dr. Cynthia Decker, Executive Director, National Climate Assessment and Development Advisory Committee, NOAA, 1315 East-West Highway, R/SAB, Silver Spring, Maryland 20910. (Phone: 301-734-1156, Fax: 301-713-1459, Email: Cynthia.Decker@noaa.gov); or visit the NOAA NCADAC Web site at http://www.nesdis.noaa.gov/NCADAC/index.html.

SUPPLEMENTARY INFORMATION: The National Climate Assessment and Development Advisory Committee was established in January 2011. The committee's mission is to synthesize and summarize the science and information pertaining to current and future impacts of climate change upon the United States; and to provide advice and recommendations toward the development of an ongoing, sustainable national assessment of global change impacts and adaptation and mitigation strategies for the Nation. Within the scope of its mission, the committee's specific objective is to produce a proposed National Climate Assessment that meets the requirements of the Global Change Research Act, 15 U.S.C. § 2931, et seq.

NOAA publishes this notice to solicit nominations for Review Editors of the National Climate Assessment and Development Advisory Committee (NCADAC) National Climate Assessment 2013 Draft Report.

Review Editor Role In the NCA Process: One Review Editor for each NCA 2013 Report Chapter (see list below) will be responsible for compliance review to determine whether or not public, Federal Agency, and National Research Council comments have been adequately addressed by the chapter authors. Review Editors must be subject matter experts, and may not be members of the NCADAC or members of chapter author teams.

Nominations: Nominations may be made by individuals themselves or by a third party. All nominations must provide: (1) The nominee's full name, title, institutional affiliation, and contact information; (2) the nominee's area(s) of expertise and National Climate Assessment chapter for which the person is to be considered (see list below); and (3) a (maximum length two [2] pages) resume or curriculum vitae. If nominations are made by a third party, that person should indicate if the individual nominated has been asked if he/she is willing to serve.

National Climate Assessment 2013 Draft Report Chapters: Our Changing Climate; Water Resources; Energy Supply and Use; Transportation; Agriculture; Forestry; Ecosystems and Biodiversity; Human Health; Water, Energy, and Land Use; Urban Systems; Infrastructure, and Vulnerability; Tribal, Indigenous, and Native Lands and Resources; Land Use and Land Cover Change; Rural Communities; Biogeochemical Cycles; Northeast Region; Southeast and Caribbean Region; Midwest Region; Great Plains Region; Southwest Region; Northwest Region; Oceans and Marine Resources; Coastal Zone Development and Ecosystems; Decision Support; Mitigation, Adaptation; Research Agenda for Climate Change Science; The NCA Long-Term Process.

Dated: December 6, 2012.
Jason Donaldson,
Chief Financial Officer/Chief Administrative Officer, Office of Oceanic and Atmospheric Research, National Oceanic and Atmospheric Administration.

[FR Doc. 2012-30147 Filed 12-12-12; 8:45 am]

BILLING CODE 3510-22-P